DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety regulations. The individual petition is described below including, the party seeking relief, the regulatory provisions involved, the nature of the relief being requested, and the petitioner's arguments in favor of relief.

Wabtec Railway Electronics

[Docket Number FRA-2001-9270]

Wabtec Railway Electronics (Wabtec) seeks a permanent waiver of compliance from certain provisions of the Railroad Power Brake and Drawbars regulations, 49 CFR 232, regarding two-way end-of-train devices. Specifically, section 232.23(f)(2) requires:

The rear unit batteries shall be sufficiently charged at the initial terminal or other points where the device is installed and throughout the train's trip to ensure that the end-of-train-device will remain operative until the train reaches its destination.

Wabtec has recently developed an air generator for its TrainLink II End-of-Train units and plans to market the product under the trade name of TrainLink II-ATX. Wabtec states that this new product eliminates the need for separate battery packs by using brake pipe pressure to drive an air turbine and associated electrical generator. The generator provides sufficient electrical power for the EOT to perform all EOT functions and to charge a small backup battery with brake pipe pressure as low as 55 psi. Below 55 psi, the backup battery provides power for at least 5 hours from a fully charged condition. Air flow to the generator is filtered for particulates and water to prevent clogging of the turbine nozzle. At 90 psi, the air flow is about 1.3 SCFM and decreases to 1.0 SCFM at 55 psi. Wabtec tested the product on a 150-car air brake test rack at their facility in Germantown, Maryland, and provided the following summarized results:

(1) With the brakes released and brake pipe pressure at 90 psi, air flow from the generator causes a 0.2-psi pressure drop at the rear of the train. This incremental 0.2-psi drop is the same regardless of the amount of gradient caused by other leaks. For example, a 15-psi gradient was simulated by introducing a leak at car 145. When the air motor is cut-in, the pressure at car 150 drops by an additional 0.2 psi.

(2) Although Wabtec believes a sudden blockage of the air nozzle is unlikely, tests were performed to ensure that a sudden drop in air flow to the turbine would not cause the brakes to release. With the air generator cut-in, no additional simulated leaks, and brakes released at 90 psi, a minimum application was initiated. Pressure was monitored every 20 cars along the rack. Thirty seconds after the minimum application was initiated, the air motor was cut-out. Brakes did not release.

(3) The test in item 2 was repeated with delay times of 60 and 90 seconds after the minimum brake application was initiated. The brakes did not release in any case.

Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition Docket Number FRA-2001-9270) and must be submitted in triplicate to the Docket Clerk, DOT Central Docket Management Facility, Room PL-401, 3 Washington, DC 20590-0001. Communications received within 35 days of the date of this notice will be considered by FRA before final action is taken. Comments received after that date will be considered as far as practicable. All written communications concerning these proceedings are available for examination during regular business hours (9 a.m.-5 p.m.) at DOT Central Docket Management Facility, Room PL-401 (Plaza Level), 400 Seventh Street SW., Washington, DC. All documents in the public docket are also available for inspection and copying on the Internet at the docket facility's web site at http://dms.dot.gov.

Issued in Washington, DC on April 2, 2001.
Grady C. Cothen, Jr.,
Deputy Associate Administrator for Safety Standards and Program Development.

[FR Doc. 01-8435 Filed 4-5-01; 8:45 am]

BILLING CODE 4910-06-P